DEPARTMENT OF LABOR

Office of the Secretary

Submission for OMB Review: Comment Request

July 27, 2009.

The Department of Labor (DOL) hereby announces the submission of the following public information collection request (ICR) to the Office of Management and Budget (OMB) for review and approval in accordance with the Paperwork Reduction Act of 1995 (Pub. L. 104-13, 44 U.S.C. chapter 35). A copy of this ICR, with applicable supporting documentation; including among other things a description of the likely respondents, proposed frequency of response, and estimated total burden may be obtained from the RegInfo.gov website at http://www.reginfo.gov/public/do/PRAMain or by contacting Mary Beth Smith-Toomey on 202-693-4223 (this is not a toll-free number)/e-mail: DOL_PRA_PUBLIC@dol.gov.

Interested parties are encouraged to send comments to the Office of Information and Regulatory Affairs, Attn: OMB Desk Officer for the Department of Labor—VETS, Office of Management and Budget, Room 10235, Washington, DC 20503, Telephone: 202-395-7316/Fax: 202-395-5806 (these are not toll-free numbers), E-mail: OIRA_submission@omb.eop.gov within 30 days from the date of this publication in the Federal Register. In order to ensure the appropriate consideration, comments should reference the OMB Control Number (see below).

The OMB is particularly interested in comments which:

• Evaluate whether the proposed collection of information is necessary for the proper performance of the functions of the agency, including whether the information will have practical utility;

• Evaluate the accuracy of the agency's estimate of the burden of the proposed collection of information, including the validity of the methodology and assumptions used;

• Enhance the quality, utility, and clarity of the information to be collected; and

• Minimize the burden of the collection of information on those who are to respond, including through the use of appropriate automated, electronic, mechanical, or other technological collection techniques or other forms of information technology, e.g., permitting electronic submission of responses.

Agency: Veterans' Employment and Training Service.

Type of Review: Revision of an existing OMB Control Number.

Title of Collection: Jobs for Veterans State Grants Reports.

OMB Control Number: 1293-0009.

Affected Public: State, Local and Tribal governments.

Total Estimated Number of Respondents: 4,199.

Total Estimated Annual Burden Hours: 32,650.

Total Estimated Annual Costs Burden: $0.

Description: The DOL Veterans' Employment and Training Service (VETS) administers funds for the multi-year Jobs for Veterans' State Grants (JVSG) to each State, the District of Columbia, Puerto Rico and the Virgin Islands on an annual basis on a fiscal year cycle. These forms are used to facilitate the identification of required programmatic and financial data provided by States requesting and expending funds and for monitoring the grants, making quarterly adjustments and reporting results to Congress. The use of program-specific standard formats helps to ensure that requested data can be provided in a uniform way, reporting burdens are minimized, the impact of collection requirements on respondents are properly assessed, collection instruments are clearly understood by respondents, and the information is easily consolidated for posting in accordance with statutory requirements. For additional information, see related notice published at Volume 74 FR 15005 on April 2, 2009.

Darrin A. King,
Departmental Clearance Officer.

[FR Doc. E9-18258 Filed 7-30-09; 8:45 am]

BILLING CODE 4510-79-P